NATIONAL AERONAUTICS AND SPACE ADMINSTRATION

[Notice (05-043)]

Return to Flight Task Group; Meeting

AGENCY: National Aeronautics and Space Administration (NASA).

ACTION: Notice of meeting.

SUMMARY: In accordance with the Federal Advisory Committee Act, Public Law 92-463, as amended, the National Aeronautics and Space Administration announces a meeting of the Return to Flight Task Group (RTF TG).

DATES: Thursday, March 31, 2005, from 7:30 a.m. until noon, central standard time.

ADDRESSES: Webster Civic Center, 311 Pennsylvania, Webster, TX 77598.

FOR FURTHER INFORMATION CONTACT: Mr. Vincent D. Watkins at (281) 792-7523.

SUPPLEMENTARY INFORMATION: The meeting will be open to the public up to the seating capacity of the meeting room. Attendees will be requested to sign a register. Audio of the meeting will be distributed via the Internet at http://returntoflight.org.

The agenda for the meeting is as follows:

—Welcome remarks from Co-Chair.

—Discussion of status of NASA's implementation of selected Columbia Accident Investigation Board return to flight recommendations.

—Action item summary from Executive Secretary.

—Closing remarks from Co-Chair.

It is imperative that the meeting be held on this date to accommodate the scheduling priorities of the key participants.

Michael F. O'Brien,
Assistant Administrator for External Relations.

[FR Doc. 05-5090 Filed 3-14-05; 8:45 am]

BILLING CODE 7510-13-P